DEPARTMENT OF TRANSPORTATION

Federal Aviation Administration

14 CFR Part 39

[Docket No. FAA-2005-23143; Directorate Identifier 2005-NM-177-AD; Amendment 39-14487; AD 2006-04-06]

RIN 2120-AA64

Airworthiness Directives; Airbus Model A318-100 Series Airplanes, Model A319-100 Series Airplanes, Model A320-111 Airplanes, Model A320-200 Series Airplanes, and Model A321-100 Series Airplanes

AGENCY: Federal Aviation Administration (FAA), Department of Transportation (DOT).

ACTION: Final rule.

SUMMARY: The FAA is superseding an existing airworthiness directive (AD), which applies to certain Airbus Model A319, A320, and A321 series airplanes. That AD currently requires repetitive inspections to detect wear of the inboard flap trunnions, and to detect wear or de-bonding of the protective half-shells; corrective actions, if necessary; and terminating action. This new AD removes the repetitive inspections to detect wear of the inboard flap trunnions and to detect wear or de-bonding of the protective half-shells; and corrective actions if necessary. This new AD adds repetitive detailed inspections of the inboard flap trunnions for any wear marks and of the sliding panels for any cracking at the long edges, and corrective actions if necessary. This new AD also adds airplanes to the applicability. This AD results from reports of wear damage to the inboard flap trunnions after incorporation of the terminating modification. We are issuing this AD to detect and correct wear of the inboard flap trunnions, which could lead to loss of flap surface control and consequently result in the flap detaching from the airplane. A detached flap could result in damage to the tail of the airplane.

DATES: This AD becomes effective March 24, 2006.

The Director of the Federal Register approved the incorporation by reference of Airbus Service Bulletin A320-57-1133, excluding Appendix 01, dated July 28, 2005, as of March 24, 2006.

On January 8, 2001 (65 FR 75603, December 4, 2000), the Director of the Federal Register approved the incorporation by reference of Airbus Service Bulletin A320-27-1117, Revision 02, dated January 18, 2000.

ADDRESSES: You may examine the AD docket on the Internet at http://dms.dot.gov or in person at the Docket Management Facility, U.S. Department of Transportation, 400 Seventh Street SW., Nassif Building, room PL-401, Washington, DC.

Contact Airbus, 1 Rond Point Maurice Bellonte, 31707 Blagnac Cedex, France, for service information identified in this AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2000-24-02, amendment 39-12009 (65 FR 75603, December 4, 2000). The existing AD applies to certain Airbus Model A319, A320, and A321 series airplanes. That NPRM was published in the Federal Register on December 1, 2005 (70 FR 72085). That NPRM proposed to remove the repetitive inspections to detect wear of the inboard flap trunnions and to detect wear or de-bonding of the protective half-shells; and corrective actions if necessary. That NPRM also proposed to add repetitive detailed inspections of the inboard flap trunnions for any wear marks and of the sliding panels for any cracking at the long edges, and corrective actions if necessary. That NPRM also proposed to add airplanes to the applicability.

Comments

We provided the public the opportunity to participate in the development of this AD. We have considered the comment that has been received on the NPRM. The commenter supports the NPRM.

Conclusion

We have carefully reviewed the available data, including the comment that has been received, and determined that air safety and the public interest require adopting the AD as proposed.

Costs of Compliance

The following table provides the estimated costs for U.S. operators to comply with this AD.

Estimated Costs
Action | Work hours | Average labor rate per hour | Parts | Cost per airplane | Number of U.S.-registered airplanes | Fleet cost
Terminating modification (required by AD 2000-24-02) | 14 | $65 | Provided by manufacturer | $910 | 719 | $654,290
Detailed inspection (new action) | 2 | 65 | None | ¹ 130 | 719 | ¹ 93,470
¹ Per inspection cycle.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-12009 (65 FR 75603, December 4, 2000) and by adding the following new airworthiness directive (AD):

2006-04-06 Airbus: Amendment 39-14487. Docket No. FAA-2005-23143; Directorate Identifier 2005-NM-177-AD.

Effective Date

(a) This AD becomes effective March 24, 2006.

Affected ADs

(b) This AD supersedes AD 2000-24-02.

Applicability

(c) This AD applies to the airplanes identified in paragraphs (c)(1) and (c)(2) of this AD, certificated in any category.

(1) Airbus Model A318-111 and -112 airplanes on which Airbus Modification 26495 has been incorporated in production.

(2) All Airbus Model A319-111, -112, -113, -114, -115, -131, -132, and -133 airplanes; Model A320-111 airplanes; Model A320-211, -212, -214, -231, -232, and -233 airplanes; and Model A321-111, -112, and -131 airplanes.

Unsafe Condition

(d) This AD results from reports of wear damage to the inboard flap trunnions after incorporation of the terminating modification. We are issuing this AD to detect and correct wear of the inboard flap trunnions, which could lead to loss of flap surface control and consequently result in the flap detaching from the airplane. A detached flap could result in damage to the tail of the airplane.

Compliance

(e) You are responsible for having the actions required by this AD performed within the compliance times specified, unless the actions have already been done.

Restatement of Certain Requirements of AD 2000-24-02

Modification

(f) For Model A319-111, -112, -113, -114, -115, -131, -132, and -133 airplanes; Model A320-111 airplanes; Model A320-211, -212, -214, -231, -232, and -233 airplanes; and Model A321-111, -112, and -131 airplanes; except those on which Airbus Modification 26495 has been accomplished in production: Within 18 months after January 8, 2001 (the effective date of AD 2000-24-02), modify the sliding panel driving mechanism of the flap drive trunnions, in accordance with Airbus Service Bulletin A320-27-1117, Revision 02, dated January 18, 2000.

Note 1: Accomplishment of the modification required by paragraph (f) of this AD before January 8, 2001, in accordance with Airbus Service Bulletin A320-27-1117, dated July 31, 1997; or Revision 01, dated June 25, 1999, is acceptable for compliance with that paragraph.

Requirements of This AD

Detailed Inspections

(g) For all airplanes: At the latest of the applicable compliance times specified in paragraphs (g)(1), (g)(2), and (g)(3) of this AD, do a detailed inspection of the inboard flap trunnions for any wear marks and of the sliding panels for any cracking at the long edges, and do any corrective actions as applicable, by accomplishing all of the applicable actions specified in the Accomplishment Instructions of Airbus Service Bulletin A320-57-1133, dated July 28, 2005; except as provided by paragraph (h) of this AD. Any corrective actions must be done at the compliance times specified in Figures 5 and 6, as applicable, of the service bulletin; except as provided by paragraph (i) of this AD. Repeat the detailed inspections thereafter at intervals not to exceed 4,000 flight hours.

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(1) Before accumulating 4,000 total flight hours on the inboard flap trunnion since new.

(2) Within 4,000 flight hours after accomplishing paragraph (f) of this AD.

(3) Within 600 flight hours after the effective date of this AD.

No Reporting Requirement

(h) Although Airbus Service Bulletin A320-57-1133, dated July 28, 2005, specifies to submit certain information to the manufacturer, this AD does not include that requirement.

Compliance Times

(i) Where Airbus Service Bulletin A320-57-1133, dated July 28, 2005, specifies replacing the sliding panel at the next opportunity, replace it within 600 flight hours after the inspection required by paragraph (g) of this AD. If the trunnion is found damaged during any inspection required by paragraph (g) of this AD, do the corrective actions specified in the service bulletin before further flight. Where the service bulletin specifies contacting the manufacturer for a grace period assessment after replacing the trunnion or flap, contact the Manager, International Branch, ANM-116, Transport Airplane Directorate, FAA, or Direction Générale de l'Aviation Civile (DGAC) for the grace period assessment.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(k) French airworthiness directive F-2005-139, dated August 3, 2005, also addresses the subject of this AD.

Material Incorporated by Reference

(l) You must use Airbus Service Bulletin A320-27-1117, Revision 02, dated January 18, 2000; and Airbus Service Bulletin A320-57-1133, excluding Appendix 01, dated July 28, 2005, as applicable, to perform the actions that are required by this AD, unless the AD specifies otherwise.

(1) The Director of the Federal Register approved the incorporation by reference of Airbus Service Bulletin A320-57-1133, excluding Appendix 01, dated July 28, 2005, in accordance with 5 U.S.C. 552(a) and 1 CFR part 51.

(2) On January 8, 2001 (65 FR 75603, December 4, 2000), the Director of the Federal Register approved the incorporation by reference of Airbus Service Bulletin A320-27-1117, Revision 02, dated January 18, 2000.

(3) Contact Airbus, 1 Rond Point Maurice Bellonte, 31707 Blagnac Cedex, France, for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on February 6, 2006.
Ali Bahrami,
Manager, Transport Airplane Directorate, Aircraft Certification Service.

[FR Doc. 06-1405 Filed 2-16-06; 8:45 am]

BILLING CODE 4910-13-P